DEPARTMENT OF COMMERCE

Foreign-Trade Zones Board

[B-11-2020]

Foreign-Trade Zone (FTZ) 119—Minneapolis, Minnesota; Authorization of Production Activity; SICK Product & Competence Center Americas, LLC; (Safety and Tracking Systems, Safety Light Curtains, and Connector Assemblies); Savage, Minnesota

On February 20, 2020, the Greater Metropolitan Area FTZ Commission, grantee of FTZ 119, submitted a notification of proposed production activity to the FTZ Board on behalf of SICK Product & Competence Center Americas, LLC, within Subzone 119G, in Savage, Minnesota.

The notification was processed in accordance with the regulations of the FTZ Board (15 CFR part 400), including notice in the Federal Register inviting public comment (85 FR 12892, March 5, 2020). On June 19, 2020, the applicant was notified of the FTZ Board's decision that no further review of the activity is warranted at this time. The production activity described in the notification was authorized, subject to the FTZ Act and the FTZ Board's regulations, including Section 400.14.

Dated: June 19, 2020.
Andrew McGilvray,
Executive Secretary.

[FR Doc. 2020-13643 Filed 6-23-20; 8:45 am]

BILLING CODE 3510-DS-P